DEPARTMENT OF AGRICULTURE

Animal and Plant Health Inspection Service

7 CFR Part 301

[Docket No. APHIS-2009-0079]

Karnal Bunt; Regulated Areas in Arizona, California, and Texas

AGENCY: Animal and Plant Health Inspection Service, USDA.

ACTION: Final rule.

SUMMARY: We are adopting as a final rule, with one change, an interim rule that amended the Karnal bunt regulations to make changes to the list of areas or fields regulated because of Karnal bunt, a fungal disease of wheat. Specifically, the interim rule added portions of the Buckeye/Pretoria area of Maricopa County, AZ, to the list of regulated areas and removed Throckmorton and Young Counties, TX, portions of Riverside County, CA, and certain areas in La Paz, Maricopa, and Pinal Counties, AZ, from the list of regulated areas based on our determination that those fields or areas meet our criteria for release from regulation. The interim rule was necessary to prevent the spread of Karnal bunt to noninfected areas of the United States and to relieve restrictions on certain areas that are no longer necessary. In the interim rule, we inadvertently removed two areas in Maricopa County, AZ, from the list of regulated areas. We are returning those areas to the list in this final rule.

DATES: Effective Date: July 26, 2011.

FOR FURTHER INFORMATION CONTACT: Ms. Lynn Evans-Goldner, Karnal Bunt Program Manager, Plant Pathogen and Weed Programs, EDP, PPQ, APHIS, 4700 River Road, Unit 26, Riverdale, MD 20737-1236; (301) 734-7228.

SUPPLEMENTARY INFORMATION:

Background

Karnal bunt is a fungal disease of wheat (Triticum aestivum), durum wheat (Triticum durum), and triticale (Triticum aestivum X Secale cereale), a hybrid of wheat and rye. Karnal bunt is caused by the fungus Tilletia indica (Mitra) Mundkur and is spread primarily through the planting of infected seed followed by very specific environmental conditions matched during specific stages of wheat growth. The U.S. Department of Agriculture's Animal and Plant Health Inspection Service regulates the movement of articles in the United States that could spread Karnal bunt and works toward eventual eradication of Karnal bunt through biosanitary measures.

In an interim rule ¹ effective and published in the Federal Register on November 10, 2010 (75 FR 68942-68945, Docket No. APHIS-2009-0079), we amended the Karnal bunt regulations in 7 CFR 301.89-1 through 301.89-16 by adding the Buckeye/Pretoria area of Maricopa County, AZ, to the list of regulated areas. The interim rule also removed Throckmorton and Young Counties, TX, portions of Riverside County, CA, and certain areas in La Paz, Maricopa, and Pinal Counties, AZ, from the list of regulated areas in § 301.89-3 based on our determination that those fields or areas meet our criteria for release from regulation.

¹ To view the interim rule and a correction that restored several missing hyphens in the rule text, go to http://www.regulations.gov/fdmspublic/component/main?main=DocketDetail&d=APHIS-2009-0079.

We solicited comments concerning the interim rule for 60 days ending January 10, 2011. We did not receive any comments. However, after the publication of the interim rule, we noted that in amending the entry for Maricopa County, AZ, in § 301.89-3, we inadvertently removed paragraphs (3) and (4) in the description of the quarantined areas in that county. We are reinstating those paragraphs in this final rule.

Therefore, for the reasons given in the interim rule, we are adopting the interim rule as a final rule with change discussed in this document.

This action also affirms the information contained in the interim rule concerning Executive Order 12866 and the Regulatory Flexibility Act, Executive Orders 12372 and 12988, and the Paperwork Reduction Act.

Further, for this action, the Office of Management and Budget has waived its review under Executive Order 12866.

Effective Date

Pursuant to the administrative procedure provisions in 5 U.S.C. 553, we find good cause for making this rule effective less than 30 days after publication in the Federal Register. The interim rule adopted as final by this rule became effective on November 10, 2010. This rule reinstates two paragraphs of the description of the regulated area in Maricopa County, AZ. Immediate action is necessary to ensure that the description of the regulated areas is accurate. Therefore, the Administrator of the Animal and Plant Health Inspection Service has determined that this rule should be effective upon publication in the Federal Register.

List of Subjects in 7 CFR Part 301

Agricultural commodities, Plant diseases and pests, Quarantine, Reporting and recordkeeping requirements, Transportation.

Accordingly, the interim rule published at 75 FR 68942-68945 on November 10, 2010, as corrected by a document published at 75 FR 70811 on November 19, 2010, is adopted as a final rule with the following changes:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Public Law 106-113, 113 Stat. 1501A-293; sections 301.75-15 and 301.75-16 issued under Sec. 203, Title II, Public Law 106-224, 114 Stat. 400 (7 U.S.C. 1421 note).

2. In § 301.89-3, paragraph (g), under the heading “Arizona”, the entry for Maricopa County is amended by adding paragraphs (3) and (4) to read as follows:

§ 301.89-3 Regulated areas.

* * * * *

(g) * * *

Arizona

* * * * *

Maricopa County. * * *

(3) Beginning at the southeast corner of sec. 30, T. 6 S., R. 5 W.; the west to the northeast corner of sec. 33, T. 6 S., R. 6 W.; then south to the southeast corner of sec. 33, T. 6 S., R. 6 W.; then west to the southwest corner of sec. 36, T. 6 S., R. 7 W.; then north to the northwest corner of sec. 36, T. 6 S., R. 7 W.; then west to the southwest corner of sec. 26, T. 6 S., R. 7 W.; then north to the northwest corner of sec. 23, T. 6 S., R. 7 W.; then west to the southeast corner of sec. 18, T. 6 S., R. 7 W.; then north to the northeast corner of sec. 6, T. 6 S., R. 7 W.; then west to the southeast corner of sec. 31, T. 5 S., R. 7 W.; then north to the northwest corner of sec. 29, T. 5 S., R. 7 W.; then east to the northeast corner of sec. 29, T. 5 S., R.7 W.; then east to the southwest corner of sec. 22, T. 5 S., R. 7 W.; then north to northwest corner of sec. 22, T. 5 S., R. 7 W.; then to the southwest corner of sec. 14, T. 5 S., R. 7 W.; then north to the northwest corner of sec. 14, T. 5 S., R. 7 W.; then east to the northeast corner of sec. 13, T. 5 S., R. 6 W.; then south to the southeast corner of sec. 24, T. 5 S., R. 6 W.; then east to the northeast corner of sec. 30, T. 5 S., R. 5 W.; then south to the southeast corner of sec. 30, T. 5 S., R. 5 W.; then east to the northeast corner of sec. 32, T. 5 S., R. 5 W.; then south to the southeast corner of sec. 32, T. 5 S., R. 5 W.; then east to the northeast corner of sec. 5, T. 6 S., R. 5 W.; then south to the southeast corner of sec. 20, T. 6 S., R. 5 W.; then west to the northeast corner of sec. 30, T. 6 S., R. 5 W.; then south to the point of beginning.

(4) Beginning at the southeast corner of sec. 36, T. 2 N., R. 5 E.; then west to the northeast corner of sec. 4, T. 1 N., R. 5 E.; then south to the southeast corner of sec. 4, T. 1 N., R. 5 E.; then west to the southwest corner of sec. 4, T. 1 N., R. 5 E.; then south to the southeast corner of sec. 17, T. 1 N., R. 5 E.; then west to the south west corner of sec. 17, T. 1 N., R. 5 E.; then north to the northwest corner of sec. 27, T. 1 N., R. 5 E.; then west to the southwest corner of sec. 12, T. 1 N., R. 4 E.; then north to the northwest corner of sec. 12, T. 1 N., R. 4 E.; then east to northeast corner of sec. 12, T. 1 N., R. 4 E.; then north to the northwest corner of sec. 7, T. 2 N., R. 5 E.; then east to the northeast corner of sec. 12, T. 2 N., R. 5 E.; then south to the point of beginning.

* * * * *

Done in Washington, DC, this 20th day of July 2011.
Kevin Shea,
Acting Administrator, Animal and Plant Health Inspection Service.

[FR Doc. 2011-18844 Filed 7-25-11; 8:45 am]

BILLING CODE 3410-34-P